NUCLEAR REGULATORY COMMISSION

Advisory Committee on Nuclear Waste; Notice of Meeting

The Advisory Committee on Nuclear Waste (ACNW) will hold its 156th meeting on December 13-14, 2004, Room T-2B3, 11545 Rockville Pike, Rockville, Maryland.

The schedule for this meeting is as follows:

Monday, December 13, 2004

2:30 p.m.-2:40 p.m.: Opening Statement (Open)—The ACNW Chairman will open the meeting with brief opening remarks.

2:40 p.m.-3:45 p.m.: Preparation for Meeting with the NRC Commissioners (Open)—The Committee will discuss the proposed presentation topics for its meeting with the NRC Commissioners, which is scheduled to be held between 9:30 a.m. and 11:30 a.m. on Wednesday, March 16, 2005.

4 p.m.-5 p.m.: Time-of-Compliance for a Proposed High-Level Waste Repository (Open)—The Committee will discuss its previous recommendations regarding time-of-compliance for a proposed high-level waste repository.

5 p.m.-6 p.m.: ACNW 2005 Operating Plan (Open)—The ACNW Committee will continue its discussions and finalize the relevant sections of the 2005 Operating Plan.

Tuesday, December 14, 2004

8:30 a.m.-8:35 a.m.: Opening Statement (Open)—The ACNW Chairman will make opening remarks regarding the conduct of today's sessions.

8:35 a.m.-10 a.m.: Agreement State Program (Open)—The Committee will receive an update from the Director, Office of State and Tribal Programs (OSTP) on recent activities of his office.

10:15 a.m.-11:30 a.m.: Working Group Planning Session (Open)—The Members will discuss draft prospectuses for proposed 2005 working group meetings.

1 p.m.-4:30 p.m.: Sealed Sources (Open)—The Committee will hear from representatives of the NRC staff, DOE, State of Maryland Department of Radiation Protection and other stakeholders on recent activities related to the control and tracking of sealed sources.

4:30 p.m.-5 p.m.: Preparation of ACNW Report (Open)—The Committee will discuss the ACNW report on Sealed Sources (Tentative).

5 p.m.-5:15 p.m.: Miscellaneous (Open)—The Committee will discuss matters related to the conduct of Committee activities and matters and specific issues that were not completed during previous meetings, as time and availability of information permit.

Procedures for the conduct of and participation in ACNW meetings were published in the Federal Register on October 18, 2004 (69 FR 61416). In accordance with these procedures, oral or written statements may be presented by members of the public. Electronic recordings will be permitted only during those portions of the meeting that are open to the public. Persons desiring to make oral statements should notify Mr. Howard J. Larson, (Telephone 301-415-6805), between 7:30 a.m. and 4 p.m. e.t., as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Howard J. Larson as to their particular needs.

Further information regarding topics to be discussed, whether the meeting has been canceled or rescheduled, the Chairman's ruling on requests for the opportunity to present oral statements and the time allotted, therefore can be obtained by contacting Mr. Howard J. Larson.

ACNW meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Video Teleconferencing service is available for observing open sessions of ACNW meetings. Those wishing to use this service for observing ACNW meetings should contact Mr. Theron Brown, ACNW Audiovisual Technician (301-415-8066), between 7:30 a.m. and 3:45 p.m. e.t., at least 10 days before the meeting to ensure the availability of this service. Individuals or organizations requesting this service will be responsible for telephone line charges and for providing the equipment and facilities that they use to establish the video teleconferencing link. The availability of video teleconferencing services is not guaranteed.

The ACNW meeting dates for Calendar Year 2005 are provided below:

ACNW meeting No. | Meeting dates
| January 2005 (No meeting).
157 | February 23-25, 2005.
158 | March 15-17, 2005.
159 | April 19-21, 2005.
160 | May 17-19, 2005.
161 | June 15-17, 2005.
162 | July 19-21, 2005.
| August 2005 (No meeting).
163 | September 20-22, 2005.
164 | October 18-20, 2005.
| November 2005 (No meeting).
165 | December 13-15, 2005.

Dated: December 1, 2004.
Andrew L. Bates,
Advisory Committee Management Officer.

[FR Doc. 04-26901 Filed 12-7-04; 8:45 am]

BILLING CODE 7590-01-P